DEPARTMENT OF TRANSPORTATION

Surface Transportation Board

[Docket No. FD 35465]

Autauga Northern Railroad, L.L.C.—Lease and Operation Exemption—Norfolk Southern Railway Company

Autauga Northern Railroad, L.L.C. (ANRR), a noncarrier, has filed a verified notice of exemption under 49 CFR 1150.31 to acquire by lease from Norfolk Southern Railway Company (NSR), and operate approximately 43.62 miles of rail lines, located between: (1) Milepost MA 130.00, at Maplesville, Ala., and milepost MA 171.05, at Autauga Creek, Ala.; and (2) milepost MD 0.00 and milepost MD 2.57, at Autauga Creek. In addition, ANRR will obtain by assignment incidental trackage rights over a 10.08-mile rail line owned by CSX Transportation, Inc., extending between milepost 171.02, at Autauga Creek, and milepost 181.1, at Montgomery, Ala.

This transaction is related to a concurrently filed notice of exemption in Docket No. FD 35464, Watco Holdings, Inc.—Continuance in Control Exemption— Autauga Northern Railroad, L.L.C., in which Watco Holdings, Inc., a noncarrier, seeks Board approval to continue in control of ANRR upon Board approval of this transaction.

The transaction may not be consummated until March 19, 2011, the effective date of the exemption (30 days after the exemption was filed).

ANRR certifies that, as a result of this transaction, its projected revenues will not result in ANRR becoming a Class II or Class I rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed by no later than March 11, 2011 (at least 7 days before the exemption becomes effective).

An original and 10 copies of all pleadings, referring to Docket No. FD 35465, must be filed with the Surface Transportation Board, 395 E Street, SW., Washington, DC 20423-0001. In addition, a copy must be served on Karl Morell, Ball Janik LLP, 1455 F Street, NW., Suite 225, Washington, DC 20005.

Board decisions and notices are available on our Web site at http://www.stb.dot.gov.

Decided: February 28, 2011.
By the Board, Rachel D. Campbell, Director, Office of Proceedings.
Andrea Pope-Matheson,
Clearance Clerk.

[FR Doc. 2011-4848 Filed 3-3-11; 8:45 am]

BILLING CODE 4915-01-P